DEPARTMENT OF ENERGY

Federal Energy Regulatory Commission

Combined Notice of Filings #2

Take notice that the Commission received the following exempt wholesale generator filings:

Docket Numbers: EG12-93-000.

Applicants: Spinning Spur Wind LLC.

Description: Notice of Self-Certification of Exempt Wholesale Generator Status of Spinning Spur Wind LLC.

Filed Date: 7/27/12.

Accession Number: 20120727-5038.

Comments Due: 5 p.m. ET 8/17/12.

Docket Numbers: EG12-94-000.

Applicants: Laurel Hill Wind Energy, LLC.

Description: Self-Certification of EWG of Laurel Hill Wind Energy, LLC.

Filed Date: 7/27/12.

Accession Number: 20120727-5069.

Comments Due: 5 p.m. ET 8/17/12.

Take notice that the Commission received the following electric rate filings:.

Docket Numbers: ER10-2669-005; ER10-2670-005; ER10-2671-006; ER10-2673-005; ER10-2253-006; ER10-3319-007; ER10-2674-005; ER10-1544-005; ER10-2627-006; ER10-2629-007; ER10-1547-005; ER10-1549-005; ER10-2675-006; ER10-1546-007; ER10-2676-005; ER10-2636-006; ER10-1550-006; ER10-1974-007; ER10-1975-007; ER11-2424-008; ER10-2677-005; ER10-1551-005; ER10-2678-004; ER10-2638-005.

Applicants: Hopewell Cogeneration Ltd Partnership, Troy Energy, LLC, MT. Tom Generating Company LLC, ANP FUNDING I, LLC, Astoria Energy LLC, FirstLight Power Resources Management, LLC, Calumet Energy Team, LLC, Pleasants Energy, LLC, Waterbury Generation LLC, Choctaw Generation Limited Partnership, Hot Spring Power Company, LLC, Syracuse Energy Corporation, IPA Trading, LLC, Northeastern Power Company, Astoria Energy II LLC, Pinetree Power-Tamworth, Inc., ANP Blackstone Energy Company, LLC, ANP Bellingham Energy Company, LLC, Milford Power Limited Partnership, Northeast Energy Associates, North Jersey Energy Associates, IPR-GDF SUEZ Energy Marketing North America, Inc., Armstrong Energy Limited Partnership, L.L.L.P., FirstLight Hydro Generating Co.

Description: Notice of Non-Material Change in Status for ANP Bellingham Energy Company, LLC, et. al.

Filed Date: 7/27/12.

Accession Number: 20120727-5062.

Comments Due: 5 p.m. ET 8/17/12.

Docket Numbers: ER11-1933-002; ER10-2441-002.

Applicants: Green Mountain Power Corporation, Central Vermont Public Service Corporation.

Description: Notice of Material Change in Status of Green Mountain Power Corporation and Central Vermont Public Service Corporation.

Filed Date: 7/27/12.

Accession Number: 20120727-5112.

Comments Due: 5 p.m. ET 8/17/12.

Docket Numbers: ER11-4106-003.

Applicants: PJM Interconnection, L.L.C.

Description: PJM Interconnection, L.L.C. submits tariff filing per 35: Compliance Filing per 6/28/2012 Order in ER11-4106 (sections effective 4/1/2012) to be effective 4/1/2012.

Filed Date: 7/27/12.

Accession Number: 20120727-5058.

Comments Due: 5 p.m. ET 8/17/12.

Docket Numbers: ER11-4106-004.

Applicants: PJM Interconnection, L.L.C.

Description: PJM Interconnection, L.L.C. submits tariff filing per 35: Compliance Filing per 6/28/2012 Order in ER11-4106 (sections effective 7/1/2012) to be effective 7/1/2012.

Filed Date: 7/27/12.

Accession Number: 20120727-5064.

Comments Due: 5 p.m. ET 8/17/12.

Docket Numbers: ER12-2007-001.

Applicants: Algonquin Windsor Locks LLC.

Description: Amendment to Pending Tariff to be effective 1/1/2014.

Filed Date: 7/27/12.

Accession Number: 20120727-5111.

Comments Due: 5 p.m. ET 8/17/12.

Docket Numbers: ER12-2252-001.

Applicants: Public Power (PA), LLC.

Description: Public Power (PA), LLC submits tariff filing per 35.17(b): Amended Proposed Market-Based Rate Tariff to be effective 8/17/2012.

Filed Date: 7/27/12.

Accession Number: 20120727-5059.

Comments Due: 5 p.m. ET 8/17/12.

Docket Numbers: ER12-2313-000.

Applicants: Laurel Hill Wind Energy, LLC.

Description: Laurel Hill Wind Energy, LLC submits tariff filing per 35.1: MBR Application and Tariff Filing to be effective 9/10/2012.

Filed Date: 7/27/12.

Accession Number: 20120727-5029.

Comments Due: 5 p.m. ET 8/17/12.

Docket Numbers: ER12-2314-000.

Applicants: Spinning Spur Wind LLC.

Description: Spinning Spur Wind LLC submits tariff filing per 35.13(a)(2)(iii: Spinning Spur Wind MBR Application Filing to be effective 9/27/2012.

Filed Date: 7/27/12.

Accession Number: 20120727-5040.

Comments Due: 5 p.m. ET 8/17/12.

Docket Numbers: ER12-2315-000.

Applicants: Florida Power Corporation.

Description: Florida Power Corporation submits tariff filing per 35.13(a)(2)(iii): Rate Schedule No. 206 of Florida Power Corp. to be effective 9/25/2012.

Filed Date: 7/27/12.

Accession Number: 20120727-5046.

Comments Due: 5 p.m. ET 8/17/12.

Docket Numbers: ER12-2316-000.

Applicants: Florida Power Corporation.

Description: Florida Power Corporation submits tariff filing per 35.13(a)(2)(iii): Rate Schedule No. 218 of Florida Power Corp. to be effective 9/25/2012.

Filed Date: 7/27/12.

Accession Number: 20120727-5047.

Comments Due: 5 p.m. ET 8/17/12.

Docket Numbers: ER12-2317-000.

Applicants: New York Independent System Operator, Inc.

Description: New York Independent System Operator, Inc. submits tariff filing per 35.13(a)(2)(iii): NYISO filing on behalf of NYPA: NYPA Revised Transmission Revenue Requirement to be effective 8/1/2012.

Filed Date: 7/27/12.

Accession Number: 20120727-5056.

Comments Due: 5 p.m. ET 8/17/12.

Docket Numbers: ER12-2318-000.

Applicants: Carolina Power & Light Company.

Description: Carolina Power & Light Company submits tariff filing per 35: Revised Market-Based Rates of Carolina Power and Light to be effective 7/2/2012.

Filed Date: 7/27/12.

Accession Number: 20120727-5061.

Comments Due: 5 p.m. ET 8/17/12.

Docket Numbers: ER12-2319-000.

Applicants: Florida Power Corporation.

Description: Florida Power Corporation submits tariff filing per 35: Revised Market-Based Rates of Florida Power Corp. to be effective 7/2/2012.

Filed Date: 7/27/12.

Accession Number: 20120727-5070.

Comments Due: 5 p.m. ET 8/17/12.

Docket Numbers: ER12-2320-000.

Applicants: Cimarron Windpower II, LLC.

Description: Merger-Related MBR Tariff Filing to be effective 7/2/2012.

Filed Date: 7/27/12.

Accession Number: 20120727-5078.

Comments Due: 5 p.m. ET 8/17/12.

Docket Numbers: ER12-2321-000.

Applicants: CinCap V, LLC.

Description: Merger-Related MBR Tariff Filing to be effective 7/2/2012.

Filed Date: 7/27/12.

Accession Number: 20120727-5079.

Comments Due: 5 p.m. ET 8/17/12.

Docket Numbers: ER12-2322-000.

Applicants: Duke Energy Carolinas, LLC.

Description: Merger-Related MBR Tariff Filing to be effective 7/2/2012.

Filed Date: 7/27/12.

Accession Number: 20120727-5080.

Comments Due: 5 p.m. ET 8/17/12.

Docket Numbers: ER12-2323-000.

Applicants: Duke Energy Commercial Asset Management.

Description: Merger-Related MBR Tariff Filing to be effective 7/2/2012.

Filed Date: 7/27/12.

Accession Number: 20120727-5081.

Comments Due: 5 p.m. ET 8/17/12.

Docket Numbers: ER12-2324-000.

Applicants: Duke Energy Commercial Enterprises, Inc.

Description: Merger-Related MBR Tariff Filing to be effective 7/2/2012.

Filed Date: 7/27/12.

Accession Number: 20120727-5082.

Comments Due: 5 p.m. ET 8/17/12.

Docket Numbers: ER12-2325-000.

Applicants: Duke Energy Indiana, Inc.

Description: Merger-Related MBR Tariff Filing to be effective 7/2/2012.

Filed Date: 7/27/12.

Accession Number: 20120727-5083.

Comments Due: 5 p.m. ET 8/17/12.

Docket Numbers: ER12-2326-000.

Applicants: Duke Energy Kentucky, Inc.

Description: Merger-Related MBR Tariff Filing to be effective 7/2/2012.

Filed Date: 7/27/12.

Accession Number: 20120727-5086.

Comments Due: 5 p.m. ET 8/17/12.

Docket Numbers: ER12-2327-000.

Applicants: Duke Energy Ohio, Inc.

Description: Merger-Related MBR Tariff Filing to be effective 7/2/2012.

Filed Date: 7/27/12.

Accession Number: 20120727-5090.

Comments Due: 5 p.m. ET 8/17/12.

Docket Numbers: ER12-2328-000.

Applicants: Duke Energy Retail Sales, LLC.

Description: Merger-Related MBR Tariff Filing to be effective 7/2/2012.

Filed Date: 7/27/12.

Accession Number: 20120727-5094.

Comments Due: 5 p.m. ET 8/17/12.

Docket Numbers: ER12-2329-000.

Applicants: Duke Energy Fayette II, LLC.

Description: Merger-Related MBR Tariff Filing to be effective 7/2/201.

Filed Date: 7/27/12.

Accession Number: 20120727-5098.

Comments Due: 5 p.m. ET 8/17/12.

Docket Numbers: ER12-2330-000.

Applicants: Duke Energy Hanging Rock II, LLC.

Description: Merger-Related MBR Tariff Amendments to be effective 7/2/2012.

Filed Date: 7/27/12.

Accession Number: 20120727-5101.

Comments Due: 5 p.m. ET 8/17/12.

Docket Numbers: ER12-2331-000.

Applicants: Happy Jack Windpower, LLC.

Description: Merger-Related MBR Tariff Filing to be effective 7/2/2012.

Filed Date: 7/27/12.

Accession Number: 20120727-5102.

Comments Due: 5 p.m. ET 8/17/12.

Docket Numbers: ER12-2332-000.

Applicants: Ironwood Windpower, LLC.

Description: Merger-Related MBR Tariff Filing to be effective 7/2/2012.

Filed Date: 7/27/12.

Accession Number: 20120727-5104.

Comments Due: 5 p.m. ET 8/17/12.

Docket Numbers: ER12-2333-000.

Applicants: Duke Energy Lee II, LLC.

Description: Merger-Related MBR Tariff Filing to be effective 7/2/201.

Filed Date: 7/27/12.

Accession Number: 20120727-5105.

Comments Due: 5 p.m. ET 8/17/12.

Docket Numbers: ER12-2334-000.

Applicants: North Allegheny Wind, LLC.

Description: Merger-Related MBR Tariff Filing to be effective 7/2/2012.

Filed Date: 7/27/12.

Accession Number: 20120727-5106.

Comments Due: 5 p.m. ET 8/17/12.

Docket Numbers: ER12-2335-000.

Applicants: Silver Sage Windpower, LLC.

Description: Merger-Related MBR Tariff Filing to be effective 7/2/2012.

Filed Date: 7/27/12.

Accession Number: 20120727-5108.

Comments Due: 5 p.m. ET 8/17/12.

Docket Numbers: ER12-2336-000.

Applicants: St. Paul Cogeneration, LLC.

Description: Merger-Related MBR Tariff Filing to be effective 7/2/2012.

Filed Date: 7/27/12.

Accession Number: 20120727-5114.

Comments Due: 5 p.m. ET 8/17/12.

Docket Numbers: ER12-2337-000.

Applicants: Three Buttes Windpower, LLC.

Description: Merger-Related MBR Tariff Filing to be effective 7/2/2012.

Filed Date: 7/27/12.

Accession Number: 20120727-5116.

Comments Due: 5 p.m. ET 8/17/12.

Docket Numbers: ER12-2338-000.

Applicants: Top of the World Wind Energy, LLC.

Description: Merger-Related MBR Tariff Filing to be effective 7/2/2012.

Filed Date: 7/27/12.

Accession Number: 20120727-5118.

Comments Due: 5 p.m. ET 8/17/12.

Docket Numbers: ER12-2339-000.

Applicants: Duke Energy Washington II, LLC.

Description: Duke Energy Washington II, LLC submits tariff filing per 35: Merger-Related MBR Tariff Filing to be effective 7/2/2012.

Filed Date: 7/27/12.

Accession Number: 20120727-5120.

Comments Due: 5 p.m. ET 8/17/12.

Docket Numbers: ER12-2340-000.

Applicants: Southwest Power Pool, Inc.

Description: Southwest Power Pool, Inc. submits tariff filing per 35.13(a)(2)(iii: 1166R17 Oklahoma Municipal Power Authority NITSA NOA to be effective 7/1/2012.

Filed Date: 7/27/12.

Accession Number: 20120727-5121.

Comments Due: 5 p.m. ET 8/17/12.

Docket Numbers: ER12-2341-000.

Applicants: PJM Interconnection, L.L.C., American Electric Power Service Corporate.

Description: PJM Interconnection, L.L.C. submits tariff filing per 35.13(a)(2)(iii: AEPSC submits 34th Revised SA No. 1336 among AEPSC & Buckeye to be effective 6/18/2012.

Filed Date: 7/27/12.

Accession Number: 20120727-5151.

Comments Due: 5 p.m. ET 8/17/12.

Docket Numbers: ER12-2342-000.

Applicants: PJM Interconnection, L.L.C.

Description: PJM Interconnection, L.L.C. submits tariff filing per 35.13(a)(2)(iii: Original Service Agreement No. 3352; Queue No. W1-029 to be effective 6/27/2012.

Filed Date: 7/27/12.

Accession Number: 20120727-5152.

Comments Due: 5 p.m. ET 8/17/12.

Take notice that the Commission received the following land acquisition reports:

Docket Numbers: LA12-2-000.

Applicants: BP Energy Company, BP West Coast Products LLC, Cedar Creek Wind Energy, LLC, Cedar Creek II, LLC, Flat Ridge 2 Wind Energy LLC, Flat Ridge Wind Energy, LLC, Fowler Ridge II Wind Farm LLC, Fowler Ridge III Wind Farm LLC, Fowler Ridge Wind Farm LLC, Goshen Phase II, LLC, Long Island Solar Farm LLC, Rolling Thunder I Power Partners, LLC, Watson Cogeneration Company, and Whiting Clean Energy, Inc.

Description: Quarterly Land Acquisition Report of BP Energy Company, et. al. under LA12-2.

Filed Date: 7/27/12.

Accession Number: 20120727-5077.

Comments Due: 5 p.m. ET 8/17/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 27, 2012.
Nathaniel J. Davis, Sr.,
Deputy Secretary.

[FR Doc. 2012-18979 Filed 8-2-12; 8:45 am]

BILLING CODE 6717-01-P